LEGAL SERVICES CORPORATION

Sunshine Act Meeting of the Board of Directors

Time and Date: The Board of Directors of the Legal Services Corporation will meet on March 10, 2003 via conference call. The meeting will begin at 2 p.m. and continue until conclusion of the Board's agenda.

Location: 750 First Street, NE, 11th Floor, Washington, DC 20002, in Room 11026.

Status of Meeting: Open.

Matters to be Considered: 1. Approval of the agenda.

2. Consider and act on adjustments to LSC's FY'04 budget request.

3. Consider and act on authorizing the LSC President and Chairman to discuss and negotiate with the Office of Management & Budget regarding LSC's FY'04 budget request.

4. Consider and act on other business.

5. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth Cushing, at (202) 336-8800.

Dated: March 3, 2003.
Victor M. Fortuno,
Vice President for Legal Affairs, General Counsel & Corporate Secretary.

[FR Doc. 03-5348 Filed 3-3-03; 3:20 pm]

BILLING CODE 7050-01-P